ENVIRONMENTAL PROTECTION AGENCY

40 CFR Parts 50, 51, and 93

[EPA-HQ-OAR-2013-0691; FRL-9925-73-OAR]

RIN 2060-AQ48

Fine Particulate Matter National Ambient Air Quality Standards: State Implementation Plan Requirements

AGENCY: Environmental Protection Agency (EPA).

ACTION: Notice of public hearing and extension of comment period.

SUMMARY: The Environmental Protection Agency (EPA) is announcing a public hearing to be held for the proposed rule titled, “Fine Particulate Matter National Ambient Air Quality Standards: State Implementation Plan Requirements” which published in the Federal Register on March 23, 2015. The hearing will be held on Wednesday, April 29, 2015, in Washington, DC The EPA is also announcing extension of the comment period for the proposed rule to May 29, 2015, to allow for sufficient time after the public hearing for commenters to submit comments.

DATES: Public Hearing. The public hearing will be held on April 29, 2015, in Washington, DC Please refer to SUPPLEMENTARY INFORMATION for additional information on the public hearing. Comments. Comments must be received on or before May 29, 2015.

ADDRESSES: Public Hearing. The April 29, 2015, public hearing will be held at the EPA, William Jefferson Clinton East Building, Room 1117A, 1201 Constitution Avenue NW., Washington, DC 20004. Identification is required. If your driver's license is issued by Alaska, American Samoa, Arizona, Kentucky, Louisiana, Maine, Massachusetts, Minnesota, Montana, New York, Oklahoma, or the state of Washington, you must present an additional form of identification to enter (see SUPPLEMENTARY INFORMATION for additional information on this location).

Comments. Submit your comments, identified by Docket ID No. EPA-HQ-OAR-2013-0691, by one of the following methods:

• http://www.regulations.gov. Follow the on-line instructions for submitting comments.

• Email: a-and-r-docket@epa.gov.

• Mail: Air and Radiation Docket and Information Center, Attention Docket ID No. EPA-HQ-OAR-2013-0691, Environmental Protection Agency, Mailcode: 28221T, 1200 Pennsylvania Avenue NW., Washington, DC 20460. In addition, please mail a copy of your comments on the information collection (ICR) provisions to the Office of Information and Regulatory Affairs, Office of Management and Budget (OMB), Attn: Desk Officer for EPA, 725 17th Street NW., Washington, DC 20503.

• Hand Delivery: Air and Radiation Docket and Information Center, Attention Docket ID No. EPA-HQ-OAR-2013-0691, Environmental Protection Agency in the EPA Headquarters Library, Room No. 3334 in the EPA Docket Center, located at William Jefferson Clinton Building West, 1301 Constitution Avenue NW., Washington, DC 20004. Such deliveries are only accepted during the Docket's normal hours of operation, and special arrangements should be made for delivery of boxed information.

Instructions: Direct your comments to Docket ID No. EPA-HQ-OAR-2013-0691. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption and be free of any defects or viruses. For additional information about the EPA's public docket visit the EPA Docket Center homepage at http://www.epa.gov/epahome/dockets.htm. For additional instructions on submitting comments, go to the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket and Information Center in the EPA Headquarters Library, Room No. 3334 in the William Jefferson Clinton Building West, located at 1301 Constitution Avenue NW., Washington, DC 20460. The Public Reading Room is open from 8:30 a.m. to 4:30 p.m., Monday through Friday, excluding legal holidays. The phone number for the Public Reading Room is (202) 566-1744.

FOR FURTHER INFORMATION CONTACT: If you would like to speak at the public hearing, please contact Ms. Pamela Long, U.S. Environmental Protection Agency, OAQPS, Air Quality Planning Division, (C504-01), Research Triangle Park, NC 27711, telephone (919) 541-0641, fax number (919) 541-5509, email address long.pam@epa.gov, no later than April 27, 2015. If you have any questions relating to the public hearing, please contact Ms. Long at the above number.

Questions concerning the March 23, 2015, proposed rule should be addressed to Mr. Rich Damberg, U.S. EPA, Office of Air Quality Planning and Standards, State and Local Programs Group, (C539-04), Research Triangle Park, NC 27711, telephone number (919) 541-5592, email at damberg.rich@epa.gov.

SUPPLEMENTARY INFORMATION: The proposal for which the EPA is holding the public hearing was published in the Federal Register on March 23, 2015, (80 FR 15340), and is available at: http://www.epa.gov/airquality/particlepollution/actions.html and also in docket EPA-HQ-OAR-2013-0691. The public hearing will provide interested parties the opportunity to present data, views, or arguments concerning the proposal. The EPA may ask clarifying questions during the oral presentations, but will not respond to the presentations at that time. Written statements and supporting information that are submitted during the comment period will be considered with the same weight as any oral comments and supporting information presented at the public hearing. Written comments must be postmarked by the last day of the comment period. The proposed rule states that the public comment period will close on May 22, 2015. However, because the public record must remain open at least 30 days beyond the date of the public hearing, the EPA is extending the public comment period to May 29, 2015.

The public hearing will convene at 9:00 a.m. and end at 6:00 p.m. (Eastern Daylight Saving Time). The EPA will make every effort to accommodate all individuals interested in providing oral testimony. A lunch break is scheduled from 12:00 p.m. until 1:00 p.m. Please note that this hearing will be held at a U.S. government facility. Individuals planning to attend the hearing should be prepared to show valid picture identification to the security staff in order to gain access to the meeting room. The REAL ID Act, passed by Congress in 2005, established new requirements for entering federal facilities. These requirements took effect July 21, 2014. If your driver's license is issued by American Samoa, Arizona, Idaho, Louisiana, Maine, Minnesota, New Hampshire or New York, you must present an additional form of identification to enter the federal building where the public hearing will be held. Acceptable alternative forms of identification include: federal employee badges, passports, enhanced driver's licenses and military identification cards. For additional information for the status of your state regarding REAL ID, go to http://www.dhs.gov/real-id-enforcement-brief. In addition, you will need to obtain a property pass for any personal belongings you bring with you. Upon leaving the building, you will be required to return this property pass to the security desk. No large signs will be allowed in the building, cameras may only be used outside of the building, and demonstrations will not be allowed on federal property for security reasons.

If you would like to present oral testimony at the hearing, please notify Ms. Pamela Long, U.S. Environmental Protection Agency, OAQPS, Air Quality Planning Division, (C504-01), Research Triangle Park, NC 27711, telephone (919) 541-0641, fax number (919) 541-5509, email address long.pam@epa.gov, no later than 4:00 p.m. EDT on April 27, 2015. Ms. Long will arrange a general time slot for you to speak. The EPA will make every effort to follow the schedule as closely as possible on the day of the hearing.

Oral testimony will be limited to 5 minutes for each commenter. The EPA encourages commenters to provide the EPA with a copy of their oral testimony electronically (via email) or in hard copy form. The EPA will not provide audiovisual equipment for presentations unless we receive special requests in advance. Commenters should notify Ms. Long if they will need specific equipment. Commenters should also notify Ms. Long if they need specific translation services for non-English speaking commenters.

The hearing schedule, including the list of speakers, will be posted on the EPA's Web site http://www.epa.gov/airquality/particlepollution/actions.html prior to the hearing. Verbatim transcripts of the hearing and written statements will be included in the docket for the rulemaking.

How can I get copies of this document and other related information?

The EPA has established a docket for the proposed rule “Fine Particulate Matter National Ambient Air Quality Standards: State Implementation Plan Requirements” under Docket ID No. EPA-HQ-OAR-2013-0691 (available at www.regulations.gov). The EPA has made available information related to the proposed rule at this Web site: http://www.epa.gov/airquality/particlepollution/actions.html.

Dated: March 26, 2015.
Stephen D. Page,
Director, Office of Air Quality Planning and Standards.

[FR Doc. 2015-07774 Filed 4-2-15; 8:45 am]

BILLING CODE 6560-50-P